DEPARTMENT OF AGRICULTURE

Natural Resources Conservation Service

Notice of Proposed Changes in the National Handbook of Conservation Practices

AGENCY: Natural Resources Conservation Service, USDA.

ACTION: Notice and request for comments.

SUMMARY: Notice is hereby given of the intention of NRCS to issue a series of new or revised conservation practice standards in its National Handbook of Conservation Practices. These standards include: Anionic Polyacrylamide (PAM) Erosion Control; Composting Facility; Deep Tillage; Fish Passage; Stream Habitat Management; Land Reconstruction, Abandoned Mined; Land Reconstruction, Currently Mined; Underground Outlet; and Vegetative Barrier. These standards are used to convey national guidance when developing Field Office Technical Guide Standards used in the States. NRCS State Conservationists who choose to adopt these practices for use within their States will incorporate them into Section IV of their Field Office Technical Guides. These practices may be used in conservation systems that treat highly erodible land or on land determined to be wetlands.

EFFECTIVE DATES: Comments will be received until November 27, 2000. This series of new or revised conservation practice standards will be adopted after November 27, 2000.

FOR FURTHER INFORMATION CONTACT: Single copies of these standards are available from NRCS Conservation Engineering Division (CED) in Washington, DC. Submit individual inquiries and return any comments in writing to William Hughey, National Agricultural Engineer, Natural Resources Conservation Service, Post Office Box 2890, Room 6139-S, Washington, DC 20013-2890; telephone: (202) 720-5023. The standards are also available and can be downloaded from the Internet at: http://www.ftw.nrcs.usda.gov/practice_stds.html.

SUPPLEMENTARY INFORMATION: Section 343 of the Federal Agriculture Improvement and Reform Act of 1996 requires NRCS to make available for public review and comment proposed revisions to conservation practice standards used to carry out the highly erodible land and wetland provisions of the law. For the next 60 days, NRCS will receive comments relative to the proposed changes. Following that period, a determination will be made by NRCS regarding disposition of those comments, and a final determination of change will be made.

Signed at Washington, DC, on September 14, 2000.
Pearlie S. Reed,
Chief, Natural Resources Conservation Service.

[FR Doc. 00-24613 Filed 9-25-00; 8:45 am]

BILLING CODE 3410-16-P